ENVIRONMENTAL PROTECTION AGENCY

40 CFR Part 81

[CA087-DESIG; FRL-7568-3]

Clean Air Act Area Designations; California

AGENCY: Environmental Protection Agency (EPA).

ACTION: Final rule.

SUMMARY: EPA is finalizing approval of minor changes in the boundaries between areas in Southern California established under the Clean Air Act for purposes of addressing the national ambient air quality standards (NAAQS) for 1-hour ozone, particulate matter (PM-10), carbon monoxide (CO), nitrogen dioxide (NO2), and sulfur dioxide (SO2), and the prior NAAQS for total suspended particulate matter (TSP).

We are approving these boundary changes under the Clean Air Act as amended in 1990 (CAA or the Act).

EFFECTIVE DATE: This rule is effective on November 6, 2003.

ADDRESSES: You can inspect copies of the administrative record for this action at EPA's Region IX office during normal business hours by appointment. If you wish to schedule a visit, please contact Dave Jesson, as indicated below. You can inspect copies of the submitted materials by appointment at the following locations:

EPA, Region IX, 75 Hawthorne Street, San Francisco, CA 94105-3901.

California Air Resources Board, 1001 “I” Street, Sacramento, CA 95814.

FOR FURTHER INFORMATION CONTACT: Dave Jesson, EPA Region IX, at (415) 972-3957, or jesson.david@epa.gov.

SUPPLEMENTARY INFORMATION: Throughout this document, “we,” “us,” and “our” refer to EPA.

I. Proposed Action

On August 15, 2003 (68 FR 48848), we proposed to approve minor revisions to the boundaries of the Los Angeles-South Coast Air Basin Area (“South Coast Air Basin”) and the Southeast Desert Air Basin.¹ These revisions were requested on November 18, 2002, by the California Air Resources Board (CARB) under CAA section 107(d)(3)(D), which authorizes States to submit revised area designations.

¹ The Los Angeles-South Coast Air Basin Area includes all of Orange County and the more populated portions of Los Angeles, San Bernardino, and Riverside Counties. The Southeast Desert Air Basin includes portions of Los Angeles, San Bernardino, and Riverside Counties. For a description of the current boundaries of the basins and subareas for each pollutant, see 40 CFR 81.305.

The purposes of CARB's request are to:

(1) enlarge the South Coast Air Basin to include the Banning Pass area, thereby excluding the area from the Southeast Desert;

(2) harmonize the boundaries of the Coachella Valley area ² by changing them to match the PM-10 area boundaries; and

² The Coachella Valley area is part of the Southeast Desert nonattainment area for ozone and is its own PM-10 nonattainment area.

(3) correct the eastern boundary of the South Coast Air Basin with respect to CO.

We proposed to approve these redesignations and apply the boundary changes to all affected pollutants, because the revisions comply with the relevant provisions of CAA section 107(d)(3)(D) and apply equally to other pollutants for which the areas have existing designations. Our proposed action contains more information about the proposed revisions and our evaluation.

II. Public Comments and EPA Responses

Our proposed action provided a 30-day public comment period. During this period, we received no comments.

III. EPA Action

As authorized in section 107(d)(3)(D), EPA is taking final action to:

(1) revise the boundary of the South Coast Air Basin to incorporate the Banning Pass;

(2) amend the boundary of the Coachella Valley area (Riverside County portion of the Southeast Desert Air Basin for 1-hour ozone) to correspond to the PM-10 boundary for the area; and

(3) approve the State's request to make a typographical correction to the boundary of the South Coast Air Basin with respect to CO.

We are making the first two changes for all pollutants for which the areas are designated in our regulations (40 CFR Part 81). Thus, the boundary changes apply to 1-hour ozone, PM-10, CO, NO2, SO2, and TSP. We are amending the descriptions of the areas in 40 CFR 81.305 for TSP, CO, 1-Hour Ozone, and NO2. No changes are required in the 40 CFR 81.305 designation tables for PM-10 and SO2, since the tables for these pollutants do not specify boundaries and the area names need not be changed.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by December 8, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 81

Environmental protection, Air pollution control, National parks, Wilderness areas.

Dated: September 23, 2003.
Deborah Jordan,
Acting Regional Administrator, Region IX.

Part 81, chapter I, title 40 of the Code of Federal Regulations is amended as follows:

PART 81—[AMENDED]

1. The authority citation for part 81 continues to read as follows:

Authority: 42 U.S.C. 7401 et seq.

2. Section 81.305 is amended as follows:

a. In the table for “California-TSP” by revising the entry for Riverside County under “Southeast Desert Air Basin”;

b. In the table for “California—Carbon Monoxide” by revising the entry for Riverside County (part) under “Los Angeles-South Coast Air Basin Area”; by revising the entry for San Bernandino County (part) under “Los Angeles-South Coast Air Basin Area”; and by revising the entry for Riverside County (part) under the “Southeast Desert Air Basin”;

c. In the table for “California—Ozone (1-Hour Standard)” by revising the entry for Riverside County (part) under “Los Angeles-South Coast Air Basin Area”; and by revising the entry for Riverside County (part) under the “Southeast Desert modified AQMA area”;

d. In the table for “California-NO2” by revising the entry for “Riverside County (portion within S.E. Desert AQMA) County”; and by revising the entry for “Riverside County, non-AQMA portion County.”

The revisions read as follows:

§ 81.305 California.

California—TSP
Designated area | Does not meet primary standards | Does not meet secondary standards | Cannot be classified | Better than national standards
* * * * * * *
Southeast Desert Air Basin:
* * * * * * *
Riverside County (Coachella Valley planning area) |  |  | X |
Riverside County (remainder of County)
* * * * * * *

California—Carbon Monoxide
Designated area | Designation: Date ¹ | Designation: Type | Classification: Date ¹ | Classification: Type
* * * * * * *
Los Angeles—South Coast Air Basin Area Attainment
* * * * * * *
Riverside County (part) that portion of Riverside County which lies to the west of a line described as follows:
1. Beginning at the Riverside-San Diego County boundary and running north along the range line common to Range 4 East and Range 3 East, San Bernardino Base and Meridian; |  | Nonattainment |  | Serious
2. then east along the Township line common to Township 8 South and Township 7 South;
3. then north along the range line common to Range 5 East and Range 4 East;
4. then west along the Township line common to Township 6 South and Township 7 South to the southwest corner of Section 34, Township 6 South, Range 4 East;
5. then north along the west boundaries of Sections 34, 27, 22, 15, 10, and 3, Township 6 South, Range 4 East;
6. Then west along the Township line common to Township 5 South and Township 6 South;
7. Then north along the range line common to Range 4 East and Range 3 East;
8. Then west along the south boundaries of Sections 13, 14, 15, 16, 17, and 18, Township 5 South, Range 3 East;
9. then north along the range line common to Range 2 East and Range 3 East to the Riverside-San Bernardino county line.
San Bernardino County (part)—that portion of San Bernardino County which lies south and west of a line described as follows: |  | Nonattainment |  | Serious
1. Beginning at the San Bernardino-Riverside County boundary and running north along the range line common to Range 3 East and Range 2 East, San Bernardino Base and Meridian;
2. Then west along the Township line common to Township 3 North and Township 2 North to the San Bernardino-Los Angeles County boundary.
* * * * * * *
Southeast Desert Air Basin
* * * * * * *
Riverside County (part) Portion excluding Los Angeles-South Coast Air Basin |  | Unclassifiable/Attainment.
* * * * * * *
¹ This date is November 15, 1990, unless otherwise noted.
* * * * *

California—Ozone (1-Hour Standard)
Designated area | Designation: Date ¹ | Designation: Type | Classification: Date ¹ | Classification: Type
* * * * * * *
Los Angeles—South and Coast Air Basin Area
* * * * * * *
Riverside County (part) that portion of Riverside County which lies to the west of a line described as follows:
1. Beginning at the Riverside-San Diego County boundary and running north along the range line common to Range 4 East and Range 3 East, San Bernardino Base and Meridian; | 11/15/90 | Nonattainment | 11/15/90 | Extreme.
2. then east along the Township line common to Township 8 South and Township 7 South;
3. then north along the range line common to Range 5 East and Range 4 East;
4. then west along the Township line common to Township 6 South and Township 7 South to the southwest corner of Section 34, Township 6 South, Range 4 East;
5. then north along the west boundaries of Sections 34, 27, 22, 15, 10, and 3, Township 6 South, Range 4 East;
6. then west along the Township line common to Township 5 South and Township 6 South;
7. then north along the range line common to Range 4 East and Range 3 East;
8. then west along the south boundaries of Sections 13, 14, 15, 16, 17, and 18, Township 5 South, Range 3 East;
9. then north along the range line common to Range 2 East and Range 3 East to the Riverside-San Bernardino county line.
* * * * * * *
Southeast Desert Modified AQMA Area:
* * * * * * *
Riverside County | 11/15/90 | Nonattainment | 11/15/90 | Severe-17
Coachella Valley planning area—that portion of Riverside County which lies to the east of a line described as follows:
1. Beginning at the Riverside-San Diego County boundary and running north along the range line common to Range 4 East and Range 3 East, San Bernardino Base and Meridian;
2. then east along the Township line common to Township 8 South and Township 7 South;
3. then north along the range line common to Range 5 East and Range 4 East;
4. then west along the Township line common to Township 6 South and Township 7 South to the southwest corner of Section 34, Township 6 South, Range 4 East;
5. then north along the west boundaries of Sections 34, 27, 22, 15, 10, and 3, Township 6 South, Range 4 East;
6. then west along the Township line common to Township 5 South and Township 6 South;
7. then north along the range line common to Range 4 East and Range 3 East;
8. then west along the south boundaries of Sections 13, 14, 15, 16, 17, and 18, Township 5 South, Range 3 East;
9. then north along the range line common to Range 2 East and Range 3 East to the Riverside-San Bernardino County line and that portion of Riverside County which lies to the west of a line described as follows: That segment of the southwestern boundary line of Hydrologic Unit Number 18100100 within Riverside County, further described as follows:
10. Beginning at the Riverside-Imperial County boundary and running north along the range line common to Range 17 East and Range 16 East, San Bernardino Base and Meridian;
11. then northwest along the ridge line of the Chuckwalla Mountains, through Township 8 South, Range 16 East and Township 7 South, Range 16 East, until the Black Butte Mountain, elevation 4504 feet;
12. then west and northwest along the ridge line to the southwest corner of Township 5 South, Range 14 East;
13. then north along the range line common to Range 14 East and Range 13 East;
14. then west and northwest along the ridge line to Monument Mountain, elevation 4834 feet;
15. then southwest and then northwest along the ridge line of the Little San Bernardino Mountains to Quail Mountain, elevation 5814 feet;
16. then northwest along the ridge line to the Riverside-San Bernardino County line
* * * * * * *
¹ This date is November 15, 1990, unless otherwise noted.

* * * * *

California—NO2
Designated area | Does not meet primary standards | Cannot be classified or better than national standards
Riverside County (Coachella Valley planning area)
* * * * * * *
Riverside County (portion not within South Coast Air Basin or Coachella Valley planning area) |  | X
* * * * * * *

[FR Doc. 03-25136 Filed 10-6-03; 8:45 am]

BILLING CODE 6560-50-P